OFFICE OF PERSONNEL MANAGEMENT

Excepted Service

AGENCY: U.S. Office of Personnel Management (OPM).

ACTION: Notice.

SUMMARY: This notice identifies Schedule A, B, and C appointing authorities applicable to a single agency that were established or revoked from May 1, 2013, to May 31, 2013.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at http://www.gpo.gov/fdsys/browse/collection.action?collectionCode=FR. OPM also publishes an annual notice of the consolidated listing of all Schedule A, B, and C appointing authorities, current as of June 30, in the Federal Register.

Schedule A

No Schedule A authorities to report during May 2013.

Schedule B

No Schedule B authorities to report during May 2013.

Schedule C

The following Schedule C appointing authorities were approved during May 2013.

Agency name | Organization name | Position title | Authorization No. | Effective date
Department of Agriculture | Office of the Under Secretary for Food, Nutrition and Consumer Services | Senior Advisor | DA130063 | 5/3/2013
| Office of the Under Secretary for Rural Development | State Executive Director, Montana | DA130064 | 5/3/2013
| Office of Communications | Director of Risk Management | DA130069 | 5/17/2013
| Farm Service Agency | State Executive Director, Colorado | DA130067 | 5/17/2013
|  | State Executive Director, Massachusetts | DA130048 | 5/21/2013
| Office of the Assistant Secretary for Civil Rights | Special Assistant | DA130054 | 5/30/2013
| Office of the Secretary | White House Liaison | DA130077 | 5/31/2013
| Farm Service Agency | State Executive Director, Texas | DA130068 | 5/31/2013
Department of Commerce | Office of Public Affairs | Press Assistant | DC130044 | 5/9/2013
| Office of the Under Secretary | Special Assistant | DC130047 | 5/29/2013
Department of Defense | Office of the Assistant Secretary of Defense (Public Affairs) | Speech Writer | DD130058 | 5/15/2013
|  | Research Assistant | DD130070 | 5/16/2013
| Office of the Secretary | Protocol Officer | DD130068 | 5/15/2013
| Office of the Assistant Secretary of Defense (Legislative Affairs) | Special Assistant | DD130075 | 5/22/2013
| Office of the Principal Deputy Under Secretary for Policy | Special Assistant for Strategy, Plans and Forces | DD130074 | 5/30/2013
| Office of the Assistant Secretary of Defense (Homeland Defense and America's Security Affairs) | Special Assistant (Western Hemisphere Affairs) | DD130076 | 5/30/2013
| Office of the Assistant Secretary of Defense (Reserve Affairs) | Deputy Assistant Secretary of Defense (Manpower and Personnel) | DD130072 | 5/31/2013
Department of the Air Force | Office of the Assistant Secretary for Financial Management and Comptroller | Special Assistant, Financial Administration and Programs | DF130017 | 5/15/2013
Department of Education | Office of Communications and Outreach | Confidential Assistant | DB130028 | 5/6/2013
| Office of the Secretary | Special Assistant | DB130042 | 5/8/2013
| Office of the Under Secretary | Chief of Staff | DB130043 | 5/8/2013
|  | Confidential Assistant (2) | DB130039 | 5/22/2013
|  |  | DB130037 | 5/30/2013
| Office of the Deputy Secretary | Confidential Assistant | DB130044 | 5/15/2013
| Office of Planning, Evaluation and Policy Development | Special Assistant (2) | DB130035 | 5/21/2013
|  |  | DB130030 | 5/17/2013
| Office for Civil Rights | Confidential Assistant | DB130033 | 5/17/2013
| Office of the General Counsel | Special Assistant | DB130038 | 5/30/2013
| Office of Elementary and Secondary Education | Deputy Assistant Secretary for Policy and Strategic Initiatives | DB130029 | 5/17/2013
| Office of Postsecondary Education | Confidential Assistant | DB130045 | 5/31/2013
| Office of Vocational and Adult Education | Confidential Assistant | DB130036 | 5/17/2013
Department of Energy | Assistant Secretary for Energy Efficiency and Renewable Energy | Chief of Staff | DE130037 | 5/15/2013
| Office of the Secretary | Special Assistant | DE130042 | 5/15/2013
| Office of the Deputy Secretary | Special Assistant | DE130038 | 5/17/2013
| Assistant Secretary for Congressional and Intergovernmental Affairs | Senior Legislative Advisor | DE130033 | 5/21/2013
| Office of Science | Special Advisor | DE130041 | 5/21/2013
Environmental Protection Agency | Office of the Associate Administrator for Congressional and Intergovernmental Relations | Senior Advisor | EP130019 | 5/1/2013
|  | Deputy Associate Administrator for Intergovernmental Relations | EP130024 | 5/29/2013
Export-Import Bank | Office of the Chairman | Chief of Staff | EB130003 | 5/6/2013
Federal Communications Commission | Office of the Chairwoman | Special Assistant | FC130004 | 5/22/2013
General Services Administration | Office of the Administrator | Deputy Chief of Staff | GS130005 | 5/1/2013
| Public Buildings Service | Chief of Staff | GS130010 | 5/16/2013
Department of Health and Human Services | Office of the Secretary | Deputy Director for Scheduling and Advance | DH130071 | 5/31/2013
| Office of Intergovernmental and External Affairs | Director of Consumer Outreach | DH130066 | 5/17/2013
Department of Homeland Security | Office of the Under Secretary for National Protection and Programs Directorate | Cyber Security Strategist | DM130098 | 5/3/2013
|  | Confidential Assistant | DM130107 | 5/16/2013
| Office of the Under Secretary for Science and Technology | Special Assistant for Science and Technology | DM130110 | 5/30/2013
Department of Housing and Urban Development | Office of the Chief Human Capital Officer | Director, Office of Executive Scheduling and Operations | DU130014 | 5/16/2013
| Office of Housing | Policy Advisor | DU130013 | 5/17/2013
| Office of Policy Development and Research | Senior Advisor for Housing Finance | DU130015 | 5/30/2013
| Office of the Secretary | Senior Advisor for Housing Finance | DU130017 | 5/31/2013
Department of the Interior | Assistant Secretary for Policy, Management and Budget | Special Assistant for Policy, Management and Budget | DI130023 | 5/9/2013
| Office of Congressional and Legislative Affairs | Senior Counsel | DI130031 | 5/22/2013
Department of Justice | Criminal Division | Senior Counsel | DJ130051 | 5/1/2013
| Office of the Attorney General | Special Assistant | DJ130054 | 5/16/2013
Department of Labor | Office of the Secretary | Special Assistant | DL130019 | 5/1/2013
|  | White House Liaison | DL130029 | 5/7/2013
| Office of the Solicitor | Senior Counselor | DL130015 | 5/17/2013
| Office of Disability Employment Policy | Chief of Staff | DL130024 | 5/21/2013
| Occupational Safety and Health Administration | Senior Policy Advisor | DL130030 | 5/21/2013
|  | Chief of Staff | DL130032 | 5/21/2013
National Endowment for the Arts | National Endowment for the Arts | Confidential Assistant | NA130001 | 5/31/2013
Office of Management and Budget | Office of the Director | Assistant | BO130016 | 5/9/2013
Small Business Administration | Office of Field Operations | Regional Administrator (Region VIII), Denver, Colorado | SB130012 | 5/2/2013
|  | Regional Administrator (Region I), Boston, Massachusetts | SB130013 | 5/17/2013
| Office of the Administrator | Special Assistant | SB130011 | 5/3/2013
| Office of Investment | Special Assistant for the Associate Administrator for Investment and Innovation | SB130004 | 5/6/2013
Department of State | Office of the Secretary | Special Assistant | DS130052 | 5/2/2013
|  | Staff Assistant (3) | DS130062 | 5/2/2013
|  |  | DS130063 | 5/2/2013
|  |  | DS130066 | 5/7/2013
|  | Senior Advisor | DS130074 | 5/23/2013
| Foreign Policy Planning Staff | Chief Speechwriter | DS130064 | 5/2/2013
| Office of the Chief of Protocol | Assistant Chief of Protocol (Visits) | DS130065 | 5/9/2013
|  | Protocol Officer (Visits) | DS130073 | 5/21/2013
|  | Assistant Chief for Diplomatic Partnerships | DS130046 | 5/9/2013
|  | Special Advisor | DS130043 | 5/9/2013
|  | Senior Protocol Officer | DS130070 | 5/17/2013
| Department of State | Senior Advisor | DS130075 | 5/30/2013
| Office of the Under Secretary for Management | White House Liaison | DS130076 | 5/31/2013
Trade and Development Agency | Office of the Director | Public Affairs Specialist | TD130003 | 5/1/2013
Department of Transportation | Public Affairs | Deputy Director of Public Affairs | DT130017 | 5/7/2013
| Administrator | Director of Communications | DT130020 | 5/7/2013
| Assistant Secretary for Governmental Affairs | Director of Governmental Affairs | DT130021 | 5/10/2013
Department of the Treasury | Secretary of the Treasury | Associate Director, Scheduling and Advance | DY130041 | 5/24/2013
United States International Trade Commission | Office of Commissioner Broadbent | Attorney-Advisor | TC130002 | 5/7/2013
Department of Veterans Affairs | Office of the Assistant Secretary for Congressional and Legislative Affairs | Special Assistant | DV130030 | 5/14/2013

The following Schedule C appointing authorities were revoked during May 2013.

Agency name | Organization name | Position title | Authorization No. | Vacate date
Department of Agriculture | Office of the Secretary | Advisor to the Secretary for Special Projects | DA110037 | 5/4/2013
| Office of the Under Secretary for Farm and Foreign Agricultural Service | Chief of Staff | DA110040 | 5/4/2013
| Office of the Under Secretary for Research, Education, and Economics | Chief of Staff | DA120032 | 5/4/2013
Department of Commerce | Office of Public Affairs | Senior Advisor for Communications and Policy | DC120073 | 5/3/2013
| Office of the Chief of Staff | Confidential Assistant to the Deputy Chiefs of Staff | DC120022 | 5/4/2013
| Office of the Under Secretary | Senior Advisor | DC100102 | 5/10/2013
| Office of the General Counsel | Special Advisor to the General Counsel | DC110105 | 5/24/2013
| Office of Policy and Strategic Planning | Special Assistant | DC120148 | 5/25/2013
Department of Education | Office of the Under Secretary | Chief of Staff | DB090152 | 5/5/2013
| Office of the Deputy Secretary | Confidential Assistant (2) | DB110122 | 5/10/2013
|  |  | DB100097 | 5/18/2013
| Office of the Secretary | Executive Assistant | DB110057 | 5/18/2013
| Office of Planning, Evaluation, and Policy Development | Special Assistant | DB120077 | 5/28/2013
Department of Health and Human Services | Office of the Secretary | Deputy Director for Scheduling and Advance | DH110140 | 5/8/2013
Department of Homeland Security | Office of the Chief of Staff | Special Assistant to the Deputy Chief of Staff | DM110169 | 5/5/2013
| U.S. Citizenship and Immigration Services | Counselor to the Director | DM100340 | 5/17/2013
| Office of the Under Secretary for National Protection and Programs Directorate | Cybersecurity Strategist | DM120050 | 5/18/2013
Department of Housing and Urban Development | Office of the Administration | Director, Office of Executive Scheduling and Operations | DU100075 | 5/18/2013
| Office of the Chief Human Capital Officer | Director of Scheduling | DU120013 | 5/18/2013
Department of Justice | Office of Public Affairs | Confidential Assistant | DJ120003 | 5/14/2013
| Office of the Attorney General | Special Assistant to the Attorney General | DJ120079 | 5/24/2013
| National Security Division | Counsel | DJ120024 | 5/25/2013
Department of Labor | Office of the Solicitor | Special Assistant | DL100025 | 5/18/2013
Department of State | Bureau of Conflict and Stabilization Operations | Director of Overseas Operations | DS120069 | 5/3/2013
| Office of the Global Women's Issues | Staff Assistant | DS120117 | 5/9/2013
Department of Transportation | Public Affairs | Deputy Director of Public Affairs | DT120023 | 5/19/2013
Federal Communications Commission | Office of Strategic Planning and Policy Analysis | Advisor | FC120007 | 5/17/2013
National Endowment for the Arts | National Endowment for the Arts | Confidential Assistant to the Chief of Staff | NA110002 | 5/5/2013
Office of Management and Budget | Office of the Director | Senior Advisor | BO120001 | 5/3/2013
Office of the Secretary of Defense | Office of the Secretary | Protocol Officer | DD100137 | 5/18/2013
| Office of the Assistant Secretary of Defense (International Security Affairs) | Special Assistant to the Deputy Assistant Secretary of Defense (Europe/NATO) | DD110001 | 5/24/2013
Small Business Administration | Office of Congressional and Legislative Affairs | Deputy Assistant Administrator for Congressional and Legislative Affairs | SB100003 | 5/4/2013

Authority: 5 U.S.C. 3301 and 3302; E.O. 10577, 3 CFR, 1954-1958 Comp., p. 218.

U.S. Office of Personnel Management.
Elaine Kaplan,
Acting Director.

[FR Doc. 2013-18606 Filed 8-1-13; 8:45 am]

BILLING CODE 6325-39-P